DEPARTMENT OF ENERGY

Federal Energy Regulatory Commission

[Docket No. EL16-7-000]

City of Osceola, Arkansas v. Entergy Arkansas, Inc. and Entergy Services, Inc., Notice of Complaint

Take notice that on October 29, 2015, pursuant to sections 206 and 306 of the Federal Power Act, 16 U.S.C. 824(e) and 825(h) and section 206 of the Federal Energy Regulatory Commission's (Commission) Rules of Practice and Procedure, 18 CFR 385.206, City of Osceola Arkansas (Osceola or Complainant) filed a complaint against Entergy Arkansas, Inc. (EAI) and Entergy Services, Inc. (collectively Respondents). In the Complaint Osceola seeks an order and asserts that the Commission should compel Respondent to adhere to the rates, terms and conditions of the Power Coordination, Interchange and Transmission Service Agreement between EAI and Osceola. Complainant contends that EAI charged Osceola in violation of that agreement and in violation of the filed rate doctrine, all as more fully explained in the complaint.

The Complainant certifies that copies of the complaint were served on the contacts for the Respondent as listed on the Commission's list of corporate officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for electronic review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on November 30, 2015.

Dated: October 30, 2015.
Nathaniel J. Davis, Sr.,
Deputy Secretary.

[FR Doc. 2015-28210 Filed 11-4-15; 8:45 am]

BILLING CODE 6717-01-P